DEPARTMENT OF TRANSPORTATION

Federal Transit Administration

Selection of Public Transportation Resilience Projects in Response to Hurricane Sandy

AGENCY: Federal Transit Administration (FTA), DOT.

ACTION: Announcement of project selections for resilience projects in response to Hurricane Sandy.

SUMMARY: The U.S. Department of Transportation's (DOT) Federal Transit Administration (FTA) announces the selection of public transportation resilience projects in response to Hurricane Sandy under the Emergency Relief Program. These projects are funded under the Disaster Relief Appropriations Act of 2013, which made approximately $10.9 billion available for public transportation systems impacted by Hurricane Sandy in October 2012. This amount was subsequently reduced to $10.2 billion by sequestration and intergovernmental transfers of funds to other bureaus and offices within DOT. On December 26, 2013, FTA published a Federal Register Notice (78 FR 78486) announcing the availability of approximately $3 billion for projects that will reduce the risk of damage from future disasters in the areas impacted by Hurricane Sandy. FTA has allocated the maximum amount available for resilience projects: $3.592 billion. Resilience projects awarded in this notice are subject to the recently issued Final Rule for the Emergency Relief Program, which was published in the Federal Register on October 7, 2014 (79 FR 60349). FTA has published additional guidance on policies and procedures for competitive resilience funding in the form of frequently asked questions (FAQs) at www.fta.dot.gov/emergencyrelief. Recipients are responsible for monitoring this Web site for additional guidance.

FOR FURTHER INFORMATION CONTACT: Contact the appropriate FTA Regional Office found at http://www.fta.dot.gov. For program-specific questions, or additional information about project selections, please contact Adam Schildge, Office of Program Management, 1200 New Jersey Ave. SE., Washington, DC 20590, phone: (202) 366-0778, or email, adam.schildge@dot.gov. For legal questions, please contact Bonnie Graves, Office of Chief Counsel, same address, phone: (202) 366-4011, or email, Bonnie.Graves@dot.gov.

SUPPLEMENTARY INFORMATION:

Table of Contents

A. Overview of Resilience Project Selections

B. Award Administration

C. Pre-Award Authority

D. Grant Requirements

E. Reporting Requirements

A. Overview of Resilience Project Selections

As a result of Hurricane Sandy, and in accordance with the Stafford Act, President Obama declared a major disaster in late 2012 for 12 States and the District of Columbia affected by Hurricane Sandy, making public transportation agencies in specified counties in those States eligible for financial assistance under FTA's Public Transportation Emergency Relief Program.

The Disaster Relief Appropriations Act (Pub. L. 113-2) provides $10.9 billion for FTA's Emergency Relief Program for recovery, relief and resilience efforts in areas affected by Hurricane Sandy, with approximately $10.2 billion still available after implementation of the Balanced Budget and Emergency Deficit Control Act of 2011 (Pub. L. 112-25) and after intergovernmental transfers to other bureaus and offices within DOT. FTA has allocated approximately $9.27 billion in multiple tiers for response, recovery and rebuilding, for locally-prioritized resilience projects, and, now for competitively selected resilience projects. In addition, FTA has reserved approximately $817 million for remaining unfunded recovery expenses.

On March 29, 2013 FTA announced the allocation of $2 billion for response and recovery expenses. On May 29, 2013, FTA announced the allocation of an additional $2.4 billion for response and recovery, including long term rebuilding, and $1.3 billion for locally prioritized resilience improvements.

On December 26, 2013, FTA published a Notice of Funding Availability (NOFA) for approximately $3 billion for capital projects to reduce the risk of damage to public transportation systems from future disasters in the areas impacted by Hurricane Sandy. FTA received 61 eligible project proposals from 10 applicants requesting a total of over $6.6 billion. The proposed projects were evaluated based on the criteria and policy priorities described in the NOFA. This notice allocates $3,591,883,625 to 9 applicants for 40 of the 61 proposed resilience projects.

The following chart illustrates the overall allocation of funding under the FTA Emergency Relief Program and the Disaster Relief Appropriations Act:

Award type | Applicants | Available funding | Eligibility criteria
Response, Recovery & Rebuilding | Affected FTA Recipients | $4.4 billion | Damage assessments submitted by affected agencies and reviewed by FTA, and costs incurred by affected agencies.
Locally-Prioritized Resilience | MTA, NJT, PANYNJ, NYCDOT | $1.3 billion | Resilience Projects and Project Components.
Competitive Resilience | (1) States, (2) public transportation agencies that receive funding through FTA formula programs, (3) other entities responsible for an eligible public transportation capital project that enter into a subrecipient arrangement with an existing FTA grantee, and (4) entities that provide intercity passenger rail service | $3.6 billion | Resilience Projects Announced in this Notice.
Response, Recovery & Rebuilding | Affected FTA Recipients | $817 million (to be announced in a subsequent notice) | Damage assessments submitted by affected agencies and reviewed by FTA, and costs incurred by affected agencies.
Direct Transfer Resilience ¹ | Eligible DOT grantees/funding recipients implementing programs authorized under titles 23 and 49 U.S.C | $185 million | Funds allocated for projects intended to be undertaken by entities that are not current FTA recipients may be transferred to other DOT entities for administration. Additional transfers may be requested for resilience projects included in this notice.
¹ The Secretary is authorized by the Disaster Relief Appropriations Act to transfer emergency relief resilience funding to other DOT operating administrations for eligible projects.

Selected resilience projects are shown in Table 1. Allocations may be less than requested if either a scalable scope and amount was provided by the applicant, or if FTA has identified a reduced scope and amount for award. The awarded amounts represent a 75 percent Federal share of the total project cost. Applicants are required to provide a 25 percent matching cost share. The local share may be provided from an undistributed cash surplus, a replacement or depreciation cash fund or reserve, or new capital. In addition to local and State funds, non-Federal match may include the use of Community Development Block Grant (CDBG) funds, including CDBG Disaster Recovery (CDBG-DR) funds that are available for transportation purposes.

B. Award Administration

Recipients are required to submit a grant application electronically via FTA's Transportation Electronic Award Management system (TEAM), and should work with their FTA Regional Office to develop and submit their application in TEAM so that funds can be obligated expeditiously. Grant applications in TEAM may only include eligible activities under the Emergency Relief program. Upon award, payments to recipients will be made by electronic transfer to the recipient's financial institution through FTA's Electronic Clearing House Operation (ECHO) system. A discretionary project identification number has been assigned to each project for tracking purposes and must be used in FTA's electronic grants management system. Successful intercity rail projects may be transferred to the FRA for administration and oversight at the project sponsor's request.

Although Section 904(c) of the Disaster Relief Appropriations Act requires that funds received under the Disaster Relief Appropriations Act be expended within two years of obligation, OMB issued a waiver of this requirement for grants awarded under FTA's Emergency Relief Program. In issuing this waiver, OMB stated an expectation that Federal agencies and grantees will work together to ensure that funds obligated under the Disaster Relief Appropriations Act are expended in a timely manner. Recipients are advised to work with their FTA regional office to develop a timeline for project development and award. While there is not a defined timeframe in which these funds must be obligated and expended, all projects should be undertaken and completed in accordance with the project application and grant agreement and all identified milestones. FTA will use the projected milestones at the time of grant award to estimate future program expenditures and to provide information on Hurricane Sandy resilience progress to Congress.

There are some cases where the allocated amount is less than the full amount of funding requested. In these cases, the amount allocated will fund either a reduced scope alternative provided by the applicant or identified by FTA. Funds awarded to a resilience project may only be used for the project scope associated with the amount awarded. A recipient may utilize other sources of funding such as local priority resilience funding or FTA formula program funds for the non-funded elements of the proposed project. Recipients that were awarded less than their request should work with their FTA regional office to ensure the funds are obligated for the project scope associated with the amount awarded.

C. Pre-Award Authority

Pre-award authority allows affected FTA recipients to incur certain project costs before grant approval and retain the eligibility of those costs for subsequent reimbursement after grant approval. Previously, FTA extended pre-award authority for costs associated with the environmental review, as well as design and engineering expenses for selected projects. These costs remain eligible for reimbursement or may count towards the local match, regardless of the date incurred. Pre-award authority for other project costs is extended as of September 22, 2014, if the project costs meet the criteria described below. If a recipient is unsure whether a cost incurred prior to September 22 is eligible for pre-award authority or to be counted as local match, the recipient should contact their FTA regional office.

Consistent with FTA policy on pre-award authority, a project must have met all applicable Federal requirements prior to incurring expenses. The recipient assumes all risk and is responsible for ensuring that all applicable Federal program and grant requirements are met to retain eligibility. Recipients are also advised that incurring certain project costs prior to NEPA completion may render the entire project ineligible for Federal assistance. Therefore, FTA strongly encourages all recipients to consult with the appropriate FTA regional office regarding the anticipated environmental review requirements and the applicability of Federal conditions and requirements before incurring expenses under pre-award authority with the hope of future reimbursement.

Pre-award authority is not a legal or implied commitment that the subject project will be approved for FTA assistance or that FTA will obligate Federal funds. Furthermore, it is not a legal or implied commitment that all items undertaken by the applicant will be eligible for inclusion in the project.

The conditions under which pre-award authority may be used are specified below:

(i) All FTA statutory, procedural, and contractual requirements must be met.

(ii) The recipient must take no action that prejudices the legal and administrative findings that the Federal Transit Administrator must make in order to approve a project.

(iii) When a grant for the project is subsequently awarded, the Federal Financial Report in TEAM-Web must indicate the use of pre-award authority.

Expenses incurred for projects that were not selected may not be reimbursed with competitive resilience funding. If a grantee intends to carry out a project that was not selected for competitive resilience funding using local priority resilience funding, the grantee should contact the regional office immediately to discuss whether any expenses already incurred for the project are eligible for reimbursement.

Expenses incurred for projects that were not selected may be eligible for reimbursement under FTA formula programs such as Section 5307, provided that they comply with the terms of pre-award authority and that all applicable Federal requirements were met prior to incurring costs.

D. Grant Requirements

Emergency Relief funds may only be used for eligible purposes as defined under 49 U.S.C. 5324 and as described in the Emergency Relief Program Rule (49 CFR part 602).

Recipients of section 5324 funds must comply with all applicable Federal requirements, including FTA's Master Agreement. Each grant for section 5324 funds will include special grant conditions, including but not limited to specific requirements of the Disaster Relief Appropriations Act of 2013, Federal share, and enhanced oversight.

All projects announced in this notice are subject to the labor protection provisions of Section 5333(b). Accordingly, all grants containing resilience projects will be sent to the Department of Labor for certification of transit employee protections prior to FTA approval.

Proposals that receive competitive funding allocations must provide evidence of continued progress toward key project milestones, which will be determined cooperatively by FTA and the awardee within 6 months of the announcement of allocations. Projects that cease to make progress towards these milestones within an agreed-upon timeframe may have their funding allocations deobligated or rescinded.

Recipients are advised that FTA is implementing an enhanced oversight process for Disaster Relief Appropriation Act funds awarded under the Emergency Relief Program. FTA intends to undertake a risk analysis of each recipient and grant to determine the appropriate level of oversight.

Selected resilience projects involving intercity rail may be transferred to the FRA for administration and oversight at the project sponsor's request. If transferred, such projects will be subject to FRA program requirements. Recipients are advised to contact FTA for additional information.

E. Reporting Requirements

Post-award reporting requirements include submission of the Federal Financial Report and Milestone Progress Reports in FTA's electronic grant management system consistent with FTA's grants management Circular 5010.1D and the special conditions of award for Hurricane Sandy Emergency Relief grants, as well as any other reporting requirements FTA determines are necessary.

Therese W. McMillan,
Acting Administrator.

Table 1—Public Transportation Resilience Projects in Response to Hurricane Sandy
Project sponsor | Project title | Funding ID | Amount
Connecticut Department of Transportation (CTDOT) | Replacement of Norwalk River Railroad Bridge on the Northeast Corridor (Walk Bridge Replacement Project) | D2013-RESL-001 | $160,979,022
Connecticut Department of Transportation (CTDOT) | New Haven Rail Yard Power Upgrade | D2013-RESL-002 | 8,978,750
Massachusetts Bay Transportation Authority (MBTA) | MBTA Green Line Fenway Portal Flood proofing | D2013-RESL-003 | 21,673,689
Massachusetts Bay Transportation Authority (MBTA) | MBTA Charlestown Seawall Replacement | D2013-RESL-004 | 13,391,443
City of Nashua, NH | Nashua Transit Facility Back-up Power Supply | D2013-RESL-005 | 25,781
New Jersey Transit Corporation (NJ TRANSIT) | Delco Lead Safe Haven Storage and Re-Inspection Facility Project | D2013-RESL-006 | 184,493,910
New Jersey Transit Corporation (NJ TRANSIT) | Hoboken Long Slip Flood Protection | D2013-RESL-007 | 146,548,432
New Jersey Transit Corporation (NJ TRANSIT) | NJ TRANSIT Raritan River Drawbridge Replacement Project | D2013-RESL-008 | 446,312,465
New Jersey Transit Corporation (NJ TRANSIT) | NJ TransitGrid | D2013-RESL-009 | 409,764,814
New Jersey Transit Corporation (NJ TRANSIT) | Train Controls—Wayside Signals, Power & Communication Resiliency Project | D2013-RESL-010 | 88,903,190
Port Authority of New York and New Jersey | Exchange Place, Newport Station & Grove Street Station Head House Protection | D2013-RESL-011 | 37,084,650
Port Authority of New York and New Jersey | Harrison Car Maintenance Facility Automatic Flood Barrier | D2013-RESL-012 | 14,861,400
Port Authority of New York and New Jersey | Extension of Rail Yards | D2013-RESL-013 | 18,900,000
Port Authority of New York and New Jersey | Concrete Sea Wall East of PATH Harrison Car Maintenance Facility | D2013-RESL-014 | 16,815,975
Port Authority of New York and New Jersey | Penn-Moynihan Station Complex Train-shed Hardening Project | D2013-RESL-030 | 40,200,000
Port Authority of New York and New Jersey | World Trade Center Site and Transit Facilities Flood Mitigation and Resiliency Improvements Program | D2013-RESL-031 | 84,675,000
New York City Department of Transportation (NYCDOT) | New York City Comprehensive Ferry Transit Resilience Project | D2013-RESL-015 | 191,550,000
New York Metropolitan Transportation Authority (MTA) | Emergency Communications Enhancements (NYCT) | D2013-RESL-016 | 74,950,000
New York Metropolitan Transportation Authority (MTA) | Flood Mitigation in Yards (NYCT) | D2013-RESL-017 | 617,200,000
New York Metropolitan Transportation Authority (MTA) | Hardening of Substations in Flood Prone Areas and Purchase of Mobile Substations (NYCT) | D2013-RESL-018 | 112,050,000
New York Metropolitan Transportation Authority (MTA) | Protection of Tunnel Portals and Internal Tunnel Sealing (NYCT) | D2013-RESL-019 | 43,090,000
New York Metropolitan Transportation Authority (MTA) | Flood Resiliency for Long Island City Yard (LIRR) | D2013-RESL-020 | 19,150,000
New York Metropolitan Transportation Authority (MTA) | Flood Resiliency for Critical Support Facilities (NYCT) | D2013-RESL-021 | 24,320,000
New York Metropolitan Transportation Authority (MTA) | Protection of Street Level Openings in Flood Prone Areas (NYCT) | D2013-RESL-022 | 300,690,000
New York Metropolitan Transportation Authority (MTA) | Metro-North Railroad Power and Signals Resiliency Improvements | D2013-RESL-023 | 37,500,000
New York Metropolitan Transportation Authority (MTA) | Internal Station Hardening (NYCT) | D2013-RESL-024 | 19,730,000
New York Metropolitan Transportation Authority (MTA) | Pumping Capacity Improvements (NYCT) | D2013-RESL-025 | 24,140,000
New York Metropolitan Transportation Authority (MTA) | Right-of-Way (ROW) Equipment Hardening in Flood-Prone Areas (NYCT) | D2013-RESL-026 | 63,550,000
New York Metropolitan Transportation Authority (MTA) | New York-New Jersey River to River Rail Resiliency (R4) Project (LIRR) | D2013-RESL-027 | 81,007,104
New York Metropolitan Transportation Authority (MTA) | Rockaway Line Protections (NYCT) | D2013-RESL-028 | 136,820,000
New York Metropolitan Transportation Authority (MTA) | Flood Resiliency for Critical Bus Depots (NYCT) | D2013-RESL-029 | 44,770,000
Southeastern Pennsylvania Transportation Authority (SEPTA) | SEPTA Ancillary Control Center Project | D2013-RESL-032 | 9,003,000
Southeastern Pennsylvania Transportation Authority (SEPTA) | SEPTA Railroad Embankment & Slope Stabilization Project | D2013-RESL-033 | 18,739,000
Southeastern Pennsylvania Transportation Authority (SEPTA) | SEPTA Sharon Hill Line Flood Mitigation Project | D2013-RESL-034 | 3,752,000
Southeastern Pennsylvania Transportation Authority (SEPTA) | SEPTA Railroad Signal Power Reinforcement Project | D2013-RESL-035 | 32,026,000
Southeastern Pennsylvania Transportation Authority (SEPTA) | SEPTA Jenkintown Area Flood Mitigation Project | D2013-RESL-036 | 14,987,000
Southeastern Pennsylvania Transportation Authority (SEPTA) | SEPTA Manayunk/Norristown Line Shoreline Stabilization Project | D2013-RESL-037 | 4,502,000
Southeastern Pennsylvania Transportation Authority (SEPTA) | SEPTA Subway Pump Room Emergency Power Project | D2013-RESL-038 | 3,749,000
Washington Metropolitan Area Transit Authority (WMATA) | Protecting the Subway System by Raising Ventilation Shaft Elevations | D2013-RESL-039 | 13,500,000
Washington Metropolitan Area Transit Authority (WMATA) | Protecting WMATA's Existing Subway System Investment by Improving Drainage | D2013-RESL-040 | 7,500,000
Total |  |  | 3,591,883,625

[FR Doc. 2014-26244 Filed 11-4-14; 8:45 am]

BILLING CODE P